ENVIRONMENTAL PROTECTION AGENCY

[FRL-7474-5]

Draft Handbook for Management of Onsite and Clustered (Decentralized) Wastewater Treatment Systems

AGENCY: Environmental Protection Agency.

ACTION: Notice of availability.

SUMMARY: The U.S. Environmental Protection Agency (EPA) is making available the draft Handbook for Management of Onsite and Clustered (Decentralized) Wastewater Treatment Systems (referred to here as the Management Handbook) for public review and comment. The purpose of the Management Handbook is to develop a step-by-step guide for regulators and service providers to implement a voluntary management program for decentralized wastewater treatment systems. The Management Handbook supports EPA's Voluntary Guidelines for Management of Onsite and Clustered (Decentralized) Wastewater Treatment Systems (referred to here as the Management Guidelines) published elsewhere in today's Federal Register.

DATES: Comments are requested by May 27, 2003.

ADDRESSES: Comments may be submitted electronically, by mail, or through hand delivery/courier. Follow the detailed instructions as provided in section I.B.

FOR FURTHER INFORMATION CONTACT: Any questions regarding the content of EPA's draft Handbook for Management of Onsite and Clustered (Decentralized) Wastewater Treatment Systems can be addressed to Joyce Hudson by e-mail at hudson.joyce@epa.gov or via U.S. mail to Joyce Hudson, U.S. EPA, Office of Wastewater Management (4204M), 1200 Pennsylvania Avenue, NW, Washington, DC 20460.

SUPPLEMENTARY INFORMATION:

I. General Information

A. How Can I Get Copies Of This Document and Other Related Information?

1. Docket. EPA has established an official public docket for this action under Docket ID No. OW-2002-0017. The official public docket consists of the documents specifically referenced in this action, any public comments received, and other information related to this action. The official public docket is the collection of materials that is available for public viewing at the Water Docket in the EPA Docket Center, EPA West Building, Room B102, 1301 Constitution Ave., NW, Washington, DC. The EPA Docket Center Public Reading Room is open from 8:30 a.m. to 4:30 p.m., Monday through Friday, excluding legal holidays. The telephone number for the Public Reading Room is (202) 566-1744, and the telephone number for the Water Docket is (202) 566-2426.

2. Electronic Access. You may access this Federal Register document electronically through the EPA Internet under the Federal Register listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket identification number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. Although not all docket materials may be available electronically, you may still access any of the publicly available docket materials through the docket facility identified in section I.A.1.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the Docket will be scanned and placed in EPA's electronic public docket. Where practical, physical objects will be photographed, and the photograph will be placed in EPA's electronic public docket along with a brief description written by the docket staff.

3. Hardcopy. Copies of the document may also be obtained by downloading the document at http://www.epa.gov/owm/mtb/decent/, by calling the USEPA Publications Clearinghouse at 1-800-490-9198 or submitting a request by mail at USEPA Publications Clearinghouse, PO Box 42419, Cincinnati, OH 45242.

B. How and To Whom Do I Submit Comments?

You may submit comments electronically, by mail, or through hand delivery/courier. To ensure proper receipt by EPA, identify the appropriate docket identification number in the subject line on the first page of your comment. Please ensure that your comments are submitted within the specified comment period. Comments received after the close of the comment period will be marked “late.” EPA is not required to consider these late comments.

1. Electronically. If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket, and follow the online instructions for submitting comments. Once in the system, select “search,” and then key in Docket ID No. OW-2002-0017. The system is an “anonymous access” system, which means EPA will not know your identity, e-mail address, or other contact information unless you provide it in the body of your comment.

ii. E-mail. Comments may be sent by electronic mail (e-mail) to ow-docket@epa.gov, Attention Docket ID No. OW-2002-0017. In contrast to EPA's electronic public docket, EPA's e-mail system is not an “anonymous access” system. If you send an e-mail comment directly to the Docket without going through EPA's electronic public docket, EPA's e-mail system automatically captures your e-mail address. Email addresses that are automatically captured by EPA's e-mail system are included as part of the comment that is placed in the official public docket, and made available in EPA's electronic public docket.

iii. Disk or CD ROM. You may submit comments on a disk or CD ROM that you mail to the mailing address identified in section I.B.2. These electronic submissions will be accepted in WordPerfect or ASCII file format. Avoid the use of special characters and any form of encryption.

2. By Mail. Send an original and 3 copies of your comments to: Water Docket, Environmental Protection Agency, Mailcode: 4101T, 1200 Pennsylvania Avenue, NW., Washington, DC 20460, Attention: Docket ID No. OW-2002-0017.

3. By Hand Delivery or Courier. Deliver your comments to: EPA Docket Center, EPA West Building, Room B102, 1301 Constitution Avenue, NW., Washington, DC, Attention: Docket ID No. OW-2002-0017. Such deliveries are only accepted during the Docket's normal hours of operation as identified in section I.A.1.

C. What Should I Consider as I Prepare My Comments for EPA?

You may find the following suggestions helpful for preparing your comments:

1. Explain your views as clearly as possible.

2. Describe any assumptions that you used.

3. Provide any technical information and/or data you used that support your views.

4. If you estimate potential burden or costs, explain how you arrived at your estimate.

5. Provide specific examples to illustrate your concerns.

6. Offer alternatives.

7. Make sure to submit your comments by the comment period deadline identified.

8. To ensure proper receipt by EPA, identify the appropriate docket identification number in the subject line on the first page of your response. It would also be helpful if you provided the name, date, and Federal Register citation related to your comments.

II. Background

Decentralized wastewater treatment systems (commonly referred to as septic systems, private sewage systems, individual sewage systems, onsite sewage disposal systems or package plants) include onsite and clustered systems used to collect, treat, and disperse or reclaim wastewater from individual dwellings or businesses, or small communities or service areas. State agencies report that some of these systems have failed because of inappropriate siting or design or inadequate long-term maintenance. Historically high failure rates in some areas indicate a need for better management of these systems to protect public health and water quality. However, when onsite and clustered wastewater treatment systems are properly managed, they may, in many cases, be the most practical and least expensive way to treat household wastewater. In response to the need for improved management, EPA is providing the Management Guidelines to establish a benchmark for effective management. The purpose of the Management Guidelines is to raise the level of performance of onsite and clustered wastewater treatment systems through improved management programs. The draft Management Handbook supports the Voluntary Management Guidelines by providing details on assessing, developing, implementing, and sustaining a viable management program.

All aspects of a management program are covered, including public education and participation, planning, performance criteria, site evaluation, design, construction, operation and maintenance, residuals management, training and certification/licensing, inspections/monitoring, corrective actions, record keeping/reporting, and financial assistance. To address these elements of comprehensive management programs, the Management Handbook will include the following:

• Public awareness and education tools

• Case studies of management programs

• Options for inventories

• Funding examples

• Model codes and ordinances

• Examples of septage management

The primary audience for the Management Handbook are state, tribal and local regulators and community officials that are responsible for regulating onsite and clustered systems.

Onsite and clustered wastewater treatment systems currently serve about 25 percent of U.S. homes and approximately 33 percent of new development. The vast majority of these systems are conventional onsite wastewater treatment systems (septic systems). States report that these wastewater treatment systems have failed because of inappropriate siting or design or inadequate long-term maintenance and that septic tank systems constitute the third most common source of ground water contamination. Historically high failure rates in some areas indicate a need for better management of these systems to protect public health and water quality. When onsite and clustered wastewater treatment systems are properly managed, they may, in many cases, be the most practical and least expensive way to treat household wastewater.

In April, 1997, EPA prepared its “Response to Congress on the Use of Decentralized Wastewater Treatment Systems.” The report concluded that decentralized wastewater treatment technologies offer a cost-effective, long term wastewater treatment solution for many communities. However, the report emphasized that decentralized technologies must be implemented in the context of a responsible management program to consistently achieve water quality and public health goals. The report identified the current lack of management as a barrier to successfully applying these otherwise promising technologies.

In response to the need for improved management, EPA prepared a concept paper in the spring of 1999, which received considerable input from various stakeholders, including other federal agencies, state health agencies, environmental groups, trade associations and public interest groups. Based on comments received, EPA developed the draft Management Guidelines which were published in October 2000, along with an annotated outline of this draft handbook. Comments were once again solicited, resulting in the final Management Guidelines and this draft Management Handbook.

Dated: March 18, 2003.
G. Tracy Mehan, III,
Assistant Administrator, Office of Water.

[FR Doc. 03-7505 Filed 3-27-03; 8:45 am]

BILLING CODE 6560-50-P